FEDERAL RESERVE SYSTEM

Agency Information Collection Activities: Announcement of Board Approval Under Delegated Authority and Submission to OMB

SUMMARY:

Background

Notice is hereby given of the final approval of proposed information collection by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Cynthia Ayouch, Acting Federal Reserve Board Clearance Officer (202-452-3829), Division of Research and Statistics, Board of Governors of the Federal Reserve System, Washington, DC 20551. Telecommunications Device for the Deaf (TDD) users may contact (202-263-4869), Board of Governors of the Federal Reserve System, Washington, DC 20551.

OMB Desk Officer—Shagufta Ahmed —Office of Information and Regulatory Affairs, Office of Management and Budget, New Executive Office Building, Room 10235, Washington, DC 20503.

Final approval under OMB delegated authority of the extension for three years, without revision, of the following report:

Report title: The Disclosure Requirements in Connection with Regulation DD (Truth in Savings).

Agency form number: Reg DD.

OMB control number: 7100-0271.

Frequency: Monthly.

Reporters: State member banks, branches & agencies of foreign banks, commercial lending companies, and Edge Act or agreement corporations.

Annual reporting hours: 166,050.

Estimated average hours per response: Account disclosures: 1 hour;

Change in terms notices: 1.5 hours; Notices prior to maturity: 1.5 hours;

Periodic statement disclosure: 8 hours; and Advertising: 30 minutes.

Number of respondents: 1,107.

General description of report: This information collection is mandatory (12 U.S.C. 4308)). The Federal Reserve does not collect any information; therefore, no issue of confidentiality arises.

Abstract: The Truth in Savings Act (TISA) and Regulation DD require depository institutions to disclose yields, fees, and other terms concerning deposit accounts to consumers at account opening, upon request, and when changes in terms occur. Depository institutions that provide periodic statements are required to include information about fees imposed, interest earned, and the annual percentage yield earned during those statement periods. TISA and Regulation DD mandate the methods by which institutions determine the account balance on which interest is calculated. They also contain rules about advertising deposit accounts and overdraft services.

Current Actions: On March 1, 2011, the Federal Reserve published a notice in the Federal Register (76 FR 11246) requesting public comment for 60 days on the extension, without revision, of the disclosure requirements in connection with Regulation DD. The comment period for this notice expired on May 2, 2011. The Federal Reserve did not receive any comments.

Board of Governors of the Federal Reserve System, May 17, 2011.
Jennifer J. Johnson,
Secretary of the Board.

[FR Doc. 2011-12418 Filed 5-19-11; 8:45 am]

BILLING CODE 6210-01-P